SECURITIES AND EXCHANGE COMMISSION

[File No. 1-11344]

Issuer Delisting; Notice of Application To Withdraw From Listing and Registration on the American Stock Exchange LLC (Intermagnetics General Corporation, Common Stock, $.10 Par Value)

July 16, 2001.

Intermagentics General Corporation, a New York corporation (“Issuer”), has filed an application with the Securities and Exchange Commission (“Commission”), pursuant to section 12(d) of the Securities Exchange Act of 1934 (“Act”) ¹ and Rule 12d2-2(d) thereunder,² to withdraw its Common Stock, $.10 par value (“Security”), from listing and registration on the American Stock Exchange LLC (“Amex”).

¹ 15 U.S.C. 781(d).

² 15 CFR 240.12d2-2(d).

The Issuer states in its application that it has met the requirements of Amex Rule 18 by complying with all applicable laws in effect in the state of New York, in which it was incorporated, and with the Amex's rules governing an issuer's voluntary withdrawal of a security from listing and registration.

On May 30, 2001, the Board of Directors of the Issuer unanimously adopted resolutions to withdraw the Issuer's Security from listing on the Amex and, instead, list it on the Nasdaq Stock Market. In its application, the Issuer states that trading in the Security on the Amex will cease on July 10, 2001 and trading in the Security is expected to begin on the Nasdaq at the opening of business on July 11, 2001.

In making the decision to withdraw the Security from listing on the Exchange, the Issuer represents that (i) listing on the Nasdaq will be more beneficial to the Issuer's shareholders than the present listing on the Amex because of the Issuer's emergence and growing recognition as a technology-driven company; (ii) the Issuer's peers and similar companies are listed on Nasdaq; and (iii) the move to Nasdaq will further enhance the liquidity of the Issuer's stock, making it more attractive to institutional investors.

The Issuer's application relates solely to the Security withdrawal from listing on the Amex and from registration under section 12(b) of the Act ³ and shall affect neither its approval for trading on the Nasdaq, nor its obligation to be registered under section 12(g) of the Act.⁴

³ 15 U.S.C. 78l(b).

⁴ 15 U.S.C. 78l(g).

Any interested person may, on or before July 30, 2001 submit by letter to the Secretary of the Securities and Exchange Commission, 450 Fifth Street, NW., Washington, DC 20549-0609, facts bearing upon whether the application has been made in accordance with the rules of protection of investors. The Commission, based on the information submitted to it, will issue an order granting the application after the date mentioned above, unless the Commission determines to order a hearing on the matter.

For the Commission, by the Division of Market Regulation, pursuant to delegated authority.⁵

⁵ 17 CFR 200.30-3(a)(1).

Jonathan G. Katz,
Secretary.

[FR Doc. 01-18168 Filed 7-19-01; 8:45 am]

BILLING CODE 8010-01-M